Proclamation 8836 of June 1, 2012

National Oceans Month, 2012

By the President of the United States of America

A Proclamation

Our oceans help feed our Nation, fuel our economic engine, give mobility to our Armed Forces, and provide a place for rest and recreation. Healthy oceans, coasts, and waterways are among our most valuable resources—driving growth, creating jobs, and supporting businesses across America. During National Oceans Month, we reaffirm our commitment to the oceans and celebrate the myriad benefits they bring to all Americans.

From tourism and fishing to international commerce and renewable energy production, coastal and waterside communities help maintain vital sectors of our Nation's economy. Yet, while our livelihoods are inseparable from the health of these natural systems, our oceans are under threat from pollution, coastal development, overfishing, and climate change. That is why I established our first ever comprehensive National Ocean Policy. The Policy lays out a science-based approach to conservation and management, and brings together Federal, State, local, and tribal governments with all those who have a stake in our oceans, coasts, and the Great Lakes—including recreational and commercial fishermen, boaters, offshore and coastal industries, environmental groups, scientists, and the public. Through the Policy, we have already expanded access to information and tools to support ocean planning efforts. Together, I am confident we will sustain these precious ecosystems and the diverse activities they support.

President John F. Kennedy once told us, “We are tied to the ocean. And when we go back to the sea—whether it is to sail or to watch it—we are going back from whence we came.” During National Oceans Month, let us celebrate our heritage as a seafaring Nation by instilling an ethic of good ocean stewardship in all Americans.

NOW, THEREFORE, I, BARACK OBAMA, President of the United States of America, by virtue of the authority vested in me by the Constitution and the laws of the United States, do hereby proclaim June 2012 as National Oceans Month. I call upon Americans to take action to protect, conserve, and restore our oceans, coasts, and the Great Lakes.

IN WITNESS WHEREOF, I have hereunto set my hand this first day of June, in the year of our Lord two thousand twelve, and of the Independence of the United States of America the two hundred and thirty-sixth.

[FR Doc. 2012-13954

Filed 6-6-12; 8:45 am]

Billing code 3295-F2-P